DEPARTMENT OF VETERANS AFFAIRS

Change of Publication Manner for Notice of Invention Licenses

AGENCY: Department of Veterans Affairs.

ACTION: Notice.

SUMMARY: Currently, the Department of Veterans Affairs (VA) publishes notices of prospective exclusive, co-exclusive or partially exclusive domestic or foreign licenses of Government-owned inventions at the Federal Laboratory Consortium for Technology Transfer (FLC) business website (https://federallabs.org/licenses-list/all). VA must provide notice of its intent to license VA inventive subject matter in order to provide the public an opportunity to file written objections to the proposed license within at least a 15-day notice period. VA is announcing that, 15 days from the publication of this Notice, it will begin using the TechLink website (https://techlinkcenter.org) as its primary publication forum for providing notice. TechLink is a non-profit center of Montana State University. The TechLink website will serve as VA's primary forum for publishing notices of prospective exclusive, co-exclusive or partially exclusive domestic or foreign licenses licensing opportunities. However, if VA is unable to use the TechLink website due to technical problems or other unforeseen circumstances, VA will publish such notices at the FLC business website.

FOR FURTHER INFORMATION CONTACT: Dr. John J. Kaplan, Ph.D., J.D., Director, VA Technology Transfer Program (14RDTT), Department of Veterans Affairs, 810 Vermont Avenue NW, Washington, DC 20420; at John.Kaplan@va.gov or 202-632-7271. This is not a toll-free number.

SUPPLEMENTARY INFORMATION: Pursuant to 37 CFR 404.7(a)(1)(i), an exclusive, co-exclusive or partially exclusive domestic license, and, pursuant to 37 CFR 404.7(b)(1)(i), an exclusive, co-exclusive or partially exclusive foreign license, may be granted on Government-owned inventions only if notice of a prospective license has been published in the Federal Register or other appropriate manner, providing opportunity for filing written objections within at least a 15-day period. VA provides notice that, 15 days from the date of publication of this Notice, it will begin publishing notices of prospective exclusive, co-exclusive or partially exclusive domestic or foreign licenses at the TechLink website, providing opportunity for filing written objections within a 15-day period. If VA is unable to use the TechLink website due to technical problems or other unforeseen circumstances, VA will publish such notices at the FLC business website.

Signing Authority

Denis McDonough, Secretary of Veterans Affairs, approved this document on February 8, 2022 and authorized the undersigned to sign and submit the document to the Office of the Federal Register for publication electronically as an official document of the Department of Veterans Affairs.

Luvenia Potts,
Regulation Development Coordinator, Office of Regulation Policy & Management, Office of General Counsel, Department of Veterans Affairs.

[FR Doc. 2022-03124 Filed 2-11-22; 8:45 am]

BILLING CODE 8320-01-P